COMMITTEE FOR PURCHASE FROM PEOPLE WHO ARE BLIND OR SEVERELY DISABLED

Procurement List Proposed Additions and Deletions

AGENCY: Committee for Purchase from People Who Are Blind or Severely Disabled.

ACTION: Suspension of effective date.

In the document appearing on page 76234, FR Doc 05-7764, in the issue of December 23, 2005, in the first and second columns, the Committee published an effective date of January 22, 2006, for addition of the following service:

Service Type/Location: Basewide Custodial

Services: U.S. Naval Academy Complex, Annapolis, Maryland.

NPA: Melwood Horticultural Training Center, Upper Marlboro, Maryland.

Contracting Activity: Naval Facilities Engineering Command, Chesapeake, Washington, DC.

The effective date for this service is suspended until further notice.

Sheryl D. Kennerly,
Director, Information Management.

[FR Doc. E6-640 Filed 1-19-06; 8:45 am]

BILLING CODE 6353-01-P